DEPARTMENT OF TRANSPORTATION

National Highway Traffic Safety Administration

[Docket No. NHTSA-2025-0193]

Agency Information Collection Activities; Submission to the Office of Management and Budget for Review and Approval; Request for Comment; Generic Clearance for the Collection of Qualitative Feedback on Agency Service Delivery

AGENCY: National Highway Traffic Safety Administration (NHTSA), Department of Transportation (DOT).

ACTION: Notice and request for comments on a request for reinstatement of a previously approved information collection.

SUMMARY: In compliance with the Paperwork Reduction Act of 1995 (PRA), this notice announces that the Information Collection Request (ICR) summarized below will be submitted to the Office of Management and Budget (OMB) for review and approval. The ICR describes the nature of the information collection and its expected burden. Under procedures established by the Paperwork Reduction Act of 1995 (PRA), before seeking OMB approval, Federal agencies must solicit public comment on the proposed collection of information, including extensions and reinstatements of previously approved collections. A Federal Register Notice with a 60-day comment period soliciting comments on the following information collection was published on June 26, 2025. No comments were received.

DATES: Comments must be submitted on or before August 26, 2025, however no comments were received.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Jose R. Delgado-Forastieri, NIO-0300, 202-366-7491, Office of the Chief Information Officer, W51-311, U.S. Department of Transportation, 1200 New Jersey Avenue SE, Washington, DC, 20590.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Generic Clearance for the Collection of Qualitative Feedback on Agency Service Delivery.

OMB Control Number: 2127-0682.

Form Number: To be determined by specific collections.

Type of Request: Reinstatement of a previously approved information collection.

Type of Review Requested: Regular.

Length of Approval Requested: Three years from date of approval.

Summary of the Collection of Information: Executive Order 12862 directs Federal agencies to provide the highest quality service possible to the public. This proposed information collection provides a means to garner qualitative stakeholder feedback in an efficient, timely manner, in accordance with the Administration's commitment to improving service delivery.

This feedback collected through this information collection will provide insights into stakeholder perceptions, experiences and expectations; provide early warning of issues with service; or focus attention on areas where communication, training, or changes in operations might improve delivery of products or services. The feedback will allow for ongoing, collaborative and actionable communication between the Agency and its stakeholders. This information collection will also allow feedback to contribute directly to the improvement of program management.

The Agency will only submit a collection for approval under this generic clearance if it meets the following conditions:

• The collection is voluntary;

• The collection is low-burden for respondents (based on considerations of total burden hours, total number of respondents, or burden-hours per respondent) and is low-cost for both the respondents and the Federal Government;

• The collection is non-controversial and does not raise issues of concern to other Federal agencies;

• Any collection is targeted to the solicitation of opinions from respondents who have experience with the program or may have experience with the program in the near future;

• Personally identifiable information (PII) is collected only to the extent necessary and is not retained;

• Information gathered is intended to be used only internally for general service improvement and program management purposes and is not intended for release outside of the agency (if released, the agency must indicate the qualitative nature of the information);

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections under this request will not result in any new system of records containing privacy information and will not ask questions of a sensitive nature, such as sexual behavior and attitudes, religious beliefs, and other matters that are commonly considered private

Description of the Need for the Information and Proposed Use of the Information: Improving agency programs requires ongoing assessment of service delivery—systematic review of the operation of a program compared to a set of explicit or implicit standards—as a means of contributing to the continuous improvement of those programs. The Agency will collect, analyze, and interpret information gathered through this generic clearance to identify strengths and weaknesses of current services and make improvements in service delivery based on that feedback. The solicitation of feedback will target areas such as: timeliness, appropriateness, accuracy of information, courtesy, efficiency of service delivery, and resolution of issues with service delivery. Responses will be assessed to plan and inform efforts to improve or maintain the quality of service offered to the public. If this information were not collected, vital feedback from stakeholders on the Agency's services would be unavailable and the Agency would not know if adjustments would be warranted.

60-Day Notice: A Federal Register notice with a 60-day comment period soliciting public comments on the following information collection was published on June 26, 2025 (90 FR 27375). No comments were received during after the 60 days of publication.

Affected Public: Individuals and Households, Businesses and Organizations, State, Local or Tribal Government.

Estimated Number of Respondents: 17,315.

Frequency: On Occasion, per request.

Estimated Number of Responses: 17,315.

Estimated Total Annual Burden Hours: 1,795.

The 1,745 annual burden hours requested are based on the number of collections we expect to conduct over the requested period for this clearance.

A variety of instruments will be used to collect information from respondents including satisfaction surveys, focus groups, small group discussions, and usability studies. The estimated 1,795 annual burden hours are based on the number of anticipated collections over the requested period for this clearance. It is expected that the primary respondents for these collections are state and local workers. To calculate the opportunity cost associated with this submission, NHTSA estimated the total opportunity costs associated with these burden hours by looking at the average wage for state and local workers. The Bureau of Labor Statistics (BLS) estimates that the average hourly wage for state and local workers is $37.09/hour. The estimated annual opportunity cost is approximately $43,764.15 and the total three-year opportunity cost is approximately $131,292.45. Table 1 below outlines the expected collections and the corresponding estimated annual burden hours and opportunity costs.

Table 1—Estimated Annual Burden Hours and Associated Opportunity Costs
Type of collection | Number of respondents | Time per response | Estimated burden hours | Opportunity cost per response | Estimated opportunity cost
Customer Satisfaction Surveys (Office of Communications) | 16,400 | 3 min | 820 | $9.27 | $7,601.40
Focus Groups (Office of Communications) | 240 | 75 min | 300 | 37.09 | 11,127.00
Small Group Discussions | 625 | 1 hour | 625 | 37.09 | 23,171.25
Usability Study | 50 | 1 hour | 50 | 37.09 | 1,854.50
Total | 17,315 |  | 1,795 |  | 43,764.15

Estimated Total Annual Burden Cost: $0.

Participation in this collection is voluntary, and there are no costs to respondents beyond the time spent participating in the surveys.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

William Timothy Berry,
Director, Information Technology Compliance.

[FR Doc. 2025-20464 Filed 11-19-25; 8:45 am]

BILLING CODE 4910-59-P